FEDERAL COMMUNICATIONS COMMISSION

Information Collection Being Submitted for Review and Approval to the Office of Management and Budget (OMB)

AGENCY: Federal Communications Commission (FCC).

ACTION: Notice; request for comments.

SUMMARY: As part of its continuing effort to reduce paperwork burden and as required by the Paperwork Reduction Act (PRA) of 1995 (44 U.S.C. 3502-3520), the FCC invites the general public and other Federal agencies to take this opportunity to comment on the following information collection. Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB Control Number. No person shall be subject to any penalty for failing to comply with a collection of information subject to the PRA that does not display a valid OMB Control Number.

DATES: Written PRA comments should be submitted on or before January 8, 2014. If you anticipate that you will be submitting PRA comments, but find it difficult to do so within the period of time allowed by this notice, you should advise the FCC contact listed below as soon as possible.

ADDRESSES: Submit your PRA comments to Nicholas A. Fraser, Office of Management and Budget (OMB), via fax at 202-395-5167, or via the Internet at Nicholas_A._Fraser@omb.eop.gov and to Leslie Smith, Office of Managing Director (OMD), Federal Communications Commission (FCC), via the Internet at Leslie.Smith@fcc.gov. To submit your PRA comments by email, send them to: PRA@fcc.gov.

FOR FURTHER INFORMATION CONTACT: Leslie Smith, OMD, FCC, at 202-418-0217, or via the Internet at: Leslie.Smith@fcc.gov.

SUPPLEMENTARY INFORMATION: OMB Control Number: 3060-XXXX.

Title: Comprehensive Market Data Collection for Interstate Special Access Services, FCC 12-153.

Form Number: N/A.

Type of Review: New collection.

Respondents: Business or other for-profit entities, not-for-profit institutions and state, local or tribal government.

Number of Respondents: 6,400 respondents; 6,400 responses.

Estimated Time per Response: 146 hours.

Frequency of Response: One-time reporting and recordkeeping requirement.

Obligation to Respond: Mandatory. Statutory authority for this information collection is contained in 47 U.S.C. 151, 154(i), 154(j), 155, 201, 202, 203, 204, 205, 211, 215, 218, 219, 303(r), 332, 403, 503, and section 706 of the Communications Act of 1934, as amended.

Total Annual Burden: 934,400 hours.

Total Annual Cost: $10,000,000.

Privacy Act Impact Assessment: N/A.

Nature and Extent of Confidentiality: This collection calls for the submission of data and information that is commercially and competitively sensitive. The Commission plans to issue a Protective Order specifically for this data collection outlining the procedures for handling and treating the information. The Protective Order will provide limited access to the competitively sensitive information for certain representatives of persons participating in the proceeding, while protecting that competitively sensitive information from improper disclosure, and thereby will serve the public interest.

Needs and Uses: In a December 2012 Report and Order, FCC 12-153, 78 FR 2572 (Jan. 11, 2013), the Commission initiated a comprehensive special access data collection and specified the nature of the data to be collected and the scope of respondents. In conjunction with the market analysis proposed by the Commission in the December 2012 Further Notice of Proposed Rulemaking, FCC 12-153, 78 FR 2600 (Jan. 11, 2013), the data, information, and documents acquired through this new collection will aid the Commission in conducting a comprehensive evaluation of special access competition and updating its rules for pricing flexibility for special access services. Pursuant to authority delegated by the Commission, the Wireline Competition Bureau (Bureau) released a Report and Order in September 2013, DA 13-1909, 78 FR 67053 (Nov. 8, 2013), included in our submission to OMB, that (1) clarified the scope of the collection to reduce burden where doing so is consistent with our delegated authority and will not impact the Commission's ability to analyze the data; (2) provided instructions and record format specifications for submitting information; and (3) modified and amended questions and definitions contained in the collection.

Federal Communications Commission.
Gloria J. Miles,
Federal Register Liaison, Office of the Secretary, Office of Managing Director.

[FR Doc. 2013-29235 Filed 12-6-13; 8:45 am]

BILLING CODE 6712-01-P